DEPARTMENT OF COMMERCE

International Trade Administration

[A-580-874, A-557-816, A-583-854, A-552-818]

Certain Steel Nails From the Republic of Korea, Malaysia, Taiwan, and the Socialist Republic of Vietnam: Final Results of the Expedited First Sunset Reviews of the Antidumping Duty Orders

AGENCY: Enforcement and Compliance, International Trade Administration, Department of Commerce.

SUMMARY: As a result of these expedited sunset reviews, Commerce finds that revocation of the antidumping duty (AD) orders on certain steel nails (nails) from the Republic of Korea (Korea), Malaysia, Taiwan, and the Socialist Republic of Vietnam (Vietnam) would be likely to lead to the continuation or recurrence of dumping at the levels indicated in the “Final Results of Review” section of this notice.

DATES: Applicable October 6, 2020.

FOR FURTHER INFORMATION CONTACT: Ian Hamilton, AD/CVD Operations, Office II, Enforcement and Compliance, International Trade Administration, U.S. Department of Commerce, 1401 Constitution Avenue NW, Washington, DC 20230; telephone: (202) 482-4798.

SUPPLEMENTARY INFORMATION:

Background

On June 1, 2020, Commerce published the notice of initiation of the first sunset review of the AD orders on nails from Korea, Malaysia, Taiwan, and Vietnam pursuant to section 751(c) of the Tariff Act of 1930, as amended (the Act).¹ On June 9, 2020, Commerce received notices of intent to participate from Mid Continent Steel & Wire, Inc. (Mid Continent) within the 15-day deadline specified in 19 CFR 351.218(d)(1)(i).² Mid Continent claimed interested party status under section 771(9)(C) of the Act as a producer of nails in the United States.

¹ See Initiation of Five-Year (Sunset) Reviews, 85 FR 33088 (June 1, 2020).

² See Mid Continent's Letter, “Certain Steel Nails from the Republic of Korea, the Sultanate of Oman, Malaysia, the Republic of China (“Taiwan”), and the Socialist Republic of Vietnam: Notice of Intent to Participate,” dated June 9, 2020.

On July 1, 2020, Commerce received adequate substantive responses to the notice of initiation from Mid Continent within the 30-day deadline specified in 19 CFR 351.218(d)(1)(i).³ We received no substantive responses from respondent interested parties with respect to any of the orders covered by these sunset reviews.

³ See Mid Continent's Letter, “Certain Steel Nails from the Republic of Korea, the Sultanate of Oman, Malaysia, Taiwan, and the Socialist Republic of Vietnam: Substantive Response to the Notice of Initiation of Sunset Reviews,” dated July 1, 2020.

On July 21, 2020, Commerce notified the U.S. International Trade Commission that it did not receive an adequate substantive response from respondent interested parties.⁴ As a result, pursuant to 751(c)(3)(B) of the Act and 19 CFR 351.218(e)(1)(ii)(C)(2), Commerce conducted expedited (120-day) sunset reviews of the AD orders on nails from Korea, Malaysia, Taiwan, and Vietnam.

⁴ See Commerce's Letter, “Sunset Reviews Initiated on June 1, 2020,” dated July 21, 2020.

Scope of the Orders

The merchandise covered by these orders is nails having a nominal shaft length not exceeding 12 inches.⁵ Merchandise covered by the orders is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to these orders also may be classified under HTSUS subheadings 7907.00.60.00, 8206.00.00.00 or other HTSUS subheadings. While the HTSUS subheadings are provided for convenience and customs purposes, the written description of the scope of these orders is dispositive.⁶

⁵ The shaft length of certain steel nails with flat heads or parallel shoulders under the head shall be measured from under the head or shoulder to the tip of the point. The shaft length of all other certain steel nails shall be measured overall.

⁶ For a complete description of the scope of these orders, see Memorandum, “Issues and Decision Memorandum for the Expedited First Sunset Reviews of the Antidumping Duty Orders on Certain Steel Nails from the Republic of Korea, Malaysia, Taiwan, and the Socialist Republic of Vietnam,” dated concurrently with, and hereby adopted by this notice (Issues and Decision Memorandum).

Analysis of Comments Received

A complete discussion of all issues raised in these sunset reviews, including the likelihood of continuation or recurrence of dumping and the magnitude of the dumping margins likely to prevail if the AD orders were revoked, is provided in the Issues and Decision Memorandum. The Issues and Decision Memorandum is a public document and is on file electronically via Enforcement and Compliance's Antidumping and Countervailing Duty Centralized Electronic Service System (ACCESS). ACCESS is available to registered users at http://access.trade.gov. A list of topics discussed in the Issues and Decision Memorandum is included as an appendix to this notice. In addition, a complete version of the Issues and Decision Memorandum can be accessed directly on the internet at http://enforcement.trade.gov/frn. The signed and electronic versions of the Issues and Decision Memorandum are identical in content.

Final Results of Reviews

Pursuant to sections 751(c)(1) and 752(c)(1) and (3) of the Act, Commerce determines that revocation of the AD orders on nails from Korea, Malaysia, Taiwan, and Vietnam would be likely to lead to the continuation or recurrence of dumping, and that the magnitude of the dumping margins likely to prevail is up to 11.80 percent for Korea, 39.35 percent for Malaysia, 2.24 percent for Taiwan, and 323.99 percent for Vietnam.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218.

Dated: September 29, 2020.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

A. Likelihood of Continuation or Recurrence of Dumping

B. Magnitude of the Dumping Margins Likely to Prevail

VII. Final Results of Sunset Reviews

VIII. Recommendation

[FR Doc. 2020-22046 Filed 10-5-20; 8:45 am]

BILLING CODE 3510-DS-P